NUCLEAR REGULATORY COMMISSION

[Docket No. 50-341]

Detroit Edison Company; FERMI 2; Environmental Assessment and Finding of No Significant Impact

The U.S. Nuclear Regulatory Commission (NRC) is considering issuance of an exemption from Title 10 of the Code of Federal Regulations (10 CFR) Part 74, section 74.19(c), for Facility Operating License No. NPF-43, issued to Detroit Edison Company (the licensee), for operation of Fermi 2, located in Monroe County, Michigan. Therefore, as required by 10 CFR 51.21, the NRC is issuing this environmental assessment and finding of no significant impact.

Environmental Assessment

Identification of the Proposed ACTION:

The proposed action would exempt the licensee from the requirement in 10 CFR 74.19(c) to conduct a physical inventory of all special nuclear material (SNM) at intervals not to exceed 12 months. Specifically, the request is for exemption from the physical inventory requirements for those fuel assemblies that are stored under the Holtec Overhead Platforms (HOPs) when the HOPs are installed in the spent fuel racks.

The proposed action is in accordance with the licensee's application dated April 27, 2007, as supplemented by letter dated November 9, 2007.

The Need for the Proposed Action

The proposed action would allow the licensee to not have to perform physical inventory of fuel assemblies below the HOPs when the HOPs are installed. Therefore, the licensee would not have to empty and remove the HOPs to perform the annual SNM physical inventory.

Environmental Impacts of the Proposed Action

The NRC has completed its safety evaluation of the proposed action and concludes that exempting the licensee from performing a physical inventory of fuel assemblies under the HOPs when the HOPs are installed is acceptable.

The details of the staff's safety evaluation will be provided in the exemption that will be issued as part of the letter to the licensee approving the exemption to the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for Fermi 2, NUREG-0769, dated August 1981 and NUREG-0769, Addendum No. 1 dated March 1982.

Agencies and Persons Consulted

In accordance with its stated policy, on December 4, 2007, the staff consulted with the Michigan State official, Thor Strong of the Michigan Department of Environmental Quality, Radiological Protection Section, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 27, 2007, as supplemented by letter dated November 9, 2007. The licensee requested that the enclosures to both letters be withheld from public disclosure because they contain security-related sensitive information. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov. Documents may be examined, and/or copied for a fee, at the NRC's Public Document Room (PDR), located at One White Flint North, Public File Area O1 F21, 11555 Rockville Pike (first floor), Rockville, Maryland.

Dated at Rockville, Maryland, this 5th day of December 2007.
For the Nuclear Regulatory Commission.
Adrian Muñiz,
Project Manager, Plant Licensing Branch III-1, Division of Operating Reactor Licensing, Office of Nuclear Reactor Regulation.

[FR Doc. E7-24087 Filed 12-11-07; 8:45 am]

BILLING CODE 7590-01-P